DEPARTMENT OF LABOR

Employment and Training Administration

[TA-W-52,305]

National Steel Corporation/United States Steel C.P.A.D. Division, a.k.a United States Steel Corporation, Technical Center, Trenton, MI; Notice of Termination of Investigation

Pursuant to section 221 of the Trade Act of 1974, an investigation was initiated on July 14, 2003, in response to a worker petition filed on behalf of workers at United States Steel, Technical Center, Trenton, Michigan.

The petitioning group of workers is covered by an active certification issued on July 9, 2003, and which remains in effect (TA-W-51,611E). Consequently, further investigation in this case would serve no purpose, and the investigation has been terminated.

Signed at Washington, DC, this 22nd day of July, 2003.
Richard Church.
Certifying Officer, Division of Trade Adjustment Assistance.

[FR Doc. 03-19865 Filed 8-4-03; 8:45 am]

BILLING CODE 4510-30-P